DEPARTMENT OF TRANSPORTATION

Federal Aviation Administration

14 CFR Part 39

[Docket No. FAA-2010-0779; Directorate Identifier 2009-SW-84-AD]

RIN 2120-AA64

Airworthiness Directives; Eurocopter France (ECF) Model AS350B3 and EC130 B4 Helicopters

AGENCY: Federal Aviation Administration (FAA), DOT.

ACTION: Notice of proposed rulemaking (NPRM).

SUMMARY: We propose to adopt a new airworthiness directive (AD) for the specified ECF model helicopters. This proposed AD results from a mandatory continuing airworthiness information (MCAI) AD issued by the European Aviation Safety Agency (EASA), which is the Technical Agent for the Member States of the European Community. The MCAI AD states that a dormant failure of one of the two contactors 53Ka or 53Kb can occur following certain modifications. Failure of a contactor can prevent switching from “IDLE” mode to “FLIGHT” mode during autorotation training making it impossible to execute a power recovery and compelling the pilot to continue the autorotation to the ground. This condition, if not corrected, can lead to an unintended touchdown to the ground during a practice autorotation at a flight-idle power setting, damage to the helicopter, and injury to the occupants.

DATES: We must receive comments on this proposed AD by September 10, 2010.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this proposed AD from American Eurocopter Corporation, 2701 Forum Drive, Grand Prairie, TX 75053-4005, telephone (800) 232-0323, fax (972) 641-3710, or at http://www.eurocopter.com.

Examining the Docket: You may examine the AD docket on the Internet at http://www.regulations.gov or in person at the Docket Operations office between 9 a.m. and 5 p.m., Monday through Friday, except Federal holidays. The AD docket contains this proposed AD, the economic evaluation, any comments received, and other information. The street address for the Docket Operations Office (telephone (800) 647-5527) is stated in the ADDRESSES section of this proposal. Comments will be available in the AD docket shortly after receipt.

FOR FURTHER INFORMATION CONTACT: DOT/FAA Southwest Region, Ed Cuevas, ASW-112, Aviation Safety Engineer, Rotorcraft Directorate, Safety Management Group, 2601 Meacham Blvd., Fort Worth, Texas 76137, telephone (817) 222-5355, fax (817) 222-5961.

SUPPLEMENTARY INFORMATION:

Comments Invited

We invite you to send any written data, views, or arguments about this proposed AD. Send your comments to an address listed in the ADDRESSES section of this proposal. Include “Docket No. FAA-2010-0779; Directorate Identifier 2009-SW-84-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

EASA, which is the Technical Agent for the Member States of the European Community, has issued EASA AD No. 2009-0256, dated December 2, 2009, to correct an unsafe condition for the specified Eurocopter model helicopters.

The MCAI AD states that analysis shows a dormant failure of one of the two contactors 53Ka or 53Kb can occur following the modification of the Model AS350B3 by MOD 073254 and modification of the Model EC130 B4 by MOD 073773. Failure of a contactor can prevent switching from “IDLE” mode to “FLIGHT” mode during autorotation training making it impossible to execute a power recovery and compelling the pilot to continue the autorotation to the ground. This condition, if not corrected, can lead to an unintended touchdown to the ground during a practice autorotation at a flight-idle power setting, damage to the helicopter, and injury to the occupants.

You may obtain further information by examining the MCAI AD and any related service information in the AD docket.

Related Service Information

ECF has issued Alert Service Bulletin (ASB) No. 05.00.61 for the Model AS350B3 helicopters and ASB No. 05A009, for the Model EC130 B4 helicopters. Both ASB's are dated November 16, 2009. Both ASBs specify a functional check of the two contactors 53Ka and 53Kb, which are used to switch from “IDLE” mode to “FLIGHT” mode or vice versa. The ASBs also specify repetitive checking of the contactors for correct opening and closing to detect this dormant failure. ECF states that it will be preparing a modification, which will cancel the ASBs, in the very near future. Once the manufacturer develops corrective terminating actions, we anticipate further rulemaking.

FAA's Evaluation and Unsafe Condition Determination

These helicopters have been approved by the aviation authority of France and are approved for operation in the United States. Pursuant to our bilateral agreement with France, EASA, their technical representative, has notified us of the unsafe condition described in the MCAI AD. We are proposing this AD because we evaluated all information provided by EASA and determined the unsafe condition exists and is likely to exist or develop on other helicopters of these same type designs. This proposed AD would require, before the next autorotation training or on or before 100 hours time-in-service (TIS), whichever occurs first, and thereafter at intervals not to exceed 600 hours TIS, inspecting the pilot's and co-pilot's throttle twist grips for proper operation of the contactors, which provide for changes between the “IDLE and “FLIGHT” positions of the throttle twist grip control.

Differences Between This AD and the MCAI AD

We refer to flying hours as hours TIS. Also, we refer to maintenance actions as inspections rather than checks.

Costs of Compliance

We estimate that this proposed AD would affect about 116 of the Model EC130B4 helicopter and 231 of the Model AS350 B3 helicopters for a total of 347 helicopters of U.S. registry. We also estimate that it would take about ½ work-hour to inspect each helicopter and ½ work-hour to replace a microswitch. The average labor rate is $85 per work-hour. Required parts would cost about $538 for the T3933-3 microswitch. Based on these figures, we estimate the cost of the proposed AD on U.S. operators would be $21,714, assuming 4 microswitches are replaced on the Model EC130 B4 helicopters and 8 microswitches are replaced on the Model AS350B3 helicopters.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on product(s) identified in this rulemaking action.

Regulatory Findings

We determined that this proposed AD would not have federalism implications under Executive Order 13132. This proposed AD would not have a substantial direct effect on the States, on the relationship between the national Government and the States, or on the distribution of power and responsibilities among the various levels of government.

Therefore, I certify this proposed AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Eurocopter France: Docket No. FAA-2010-0779; Directorate Identifier 2009-SW-84-AD.

Comments Due Date

(a) We must receive your comments by September 10, 2010.

Other Affected ADs

(b) None.

Applicability

(c) This AD applies to Model EC130 B4 and AS350B3 helicopters, certificated in any category, with the ARRIEL 2B1 engine with the two-channel Full Authority Digital Engine Control (FADEC), and with new twist grip modification (MOD) 073254 for the Model AS350B3 helicopter or MOD 073773 for the Model EC130 B4 helicopter, installed.

Reason

(d) The mandatory continuing airworthiness information (MCAI) AD states that analysis shows a “dormant failure” of one of the two contactors, 53Ka or 53Kb, can occur following the introduction of MOD 073254 or MOD 073773. Failure of a contactor can prevent switching from “IDLE” mode to “FLIGHT” mode during autorotation training making it impossible to recover from the practice autorotation and compelling the pilot to continue the autorotation to the ground. This condition, if not corrected, can lead to an unintended touchdown to the ground at a flight-idle power setting during a practice autorotation, damage to the helicopter, and injury to the occupants.

Actions and Compliance

(e) Before the next practice autorotation or on or before 100 hours time-in-service (TIS), whichever occurs first, unless accomplished previously, and thereafter at intervals not to exceed 600 hours TIS:

(1) Inspect for the proper operation of contactors 53Ka and 53Kb by rotating the pilot and co-pilot throttle twist grip controls between the “IDLE” and “FLIGHT” position in accordance with the Accomplishment Instructions, paragraph 2.B.2, of Eurocopter Alert Service Bulletin (ASB) No. 05.00.61, dated November 16, 2009, for the Model AS350B3 helicopters or ASB No. 05A009, dated November 16, 2009, for the Model EC130 B4 helicopters, as appropriate for your model helicopter.

(2) Test the pilot and co-pilot throttle twist grip controls for proper functioning. If the throttle twist grip controls are not functioning properly, repair the controls.

Differences Between This AD and the MCAI AD

(f) We refer to flight hours as hours TIS. Also, we refer to maintenance actions as inspections rather than checks.

Other Information

(g) Alternative Methods of Compliance (AMOCs): The Manager, Safety Management Group, ATTN: DOT/FAA Southwest Region, Ed Cuevas, ASW-112, Aviation Safety Engineer, Rotorcraft Directorate, Safety Management Group, 2601 Meacham Blvd., Fort Worth, Texas 76137, telephone (817) 222-5355, fax (817) 222-5961, has the authority to approve AMOCs for this AD, if requested, using the procedures found in 14 CFR 39.19.

Related Information

(h) MCAI AD No. 2009-0256, dated December 2, 2009, contains related information.

Joint Aircraft System/Component (JASC) Code

(i) The JASC Code is 7697: Engine Control System Wiring.

Issued in Fort Worth, Texas, on August 3, 2010.
Scott A. Horn,
Acting Manager, Rotorcraft Directorate, Aircraft Certification Service.

[FR Doc. 2010-19814 Filed 8-10-10; 8:45 am]

BILLING CODE 4910-13-P